DEPARTMENT OF COMMERCE

Bureau of the Census

Census Scientific Advisory Committee

AGENCY: Bureau of the Census, Department of Commerce.

ACTION: Notice of public virtual meeting.

SUMMARY: The Bureau of the Census (Census Bureau) is giving notice of a virtual meeting of the Census Scientific Advisory Committee (CSAC). The Committee will address ongoing outreach efforts needed to assist with the designing of a differential privacy suite for the 2020 Census data products that will meet programmatic, legal, and statistical requirements, including work on both the primary and secondary disclosure avoidance systems. Last-minute changes to the schedule are possible, which could prevent giving advance public notice of schedule adjustments. Please visit the Census Advisory Committees website at http://www.census.gov/cac for the CSAC meeting information, including the agenda, and how to join the meeting.

DATES: The virtual meeting will be held on:

• Tuesday, May 25, 2021, from 11:00 a.m. to 2:30 p.m. EDT

ADDRESSES: The meeting will be held via the WebEx platform at the following presentation link: https://uscensus.webex.com/uscensus/onstage/g.php?MTID=e351f8ffcb2e21b2437a649a206a6d8d3.

For audio, please call the following number: 1-888-469-2085. When prompted, please use the following Password: #Censusdata1 and Passcode: 2886934.

FOR FURTHER INFORMATION CONTACT: Shana Banks, Advisory Committee Branch Chief, Office of Program, Performance and Stakeholder Integration (PPSI), shana.j.banks@census.gov, Department of Commerce, U.S. Census Bureau, telephone 301-763-3815. For TTY callers, please use the Federal Relay Service at 1-800-877-8339.

SUPPLEMENTARY INFORMATION: The Committee provides scientific and technical expertise to address Census Bureau program needs and objectives. The members of the CSAC are appointed by the Director of the Census Bureau. The Committee has been established in accordance with the Federal Advisory Committee Act (Title 5, United States Code, Appendix 2, Section 10).

All meetings are open to the public. A brief period will be set aside during the virtual meeting for public comments on May 25, 2021. However, individuals with extensive questions or statements must submit them in writing to shana.j.banks@census.gov, (subject line “CSAC Differential Privacy Virtual Meeting Public Comment”).

Ron S. Jarmin, Acting Director, Bureau of the Census, approved the publication of this Notice in the Federal Register.

Dated: April 23, 2021.
Sheleen Dumas,
Department PRA Clearance Officer, Office of the Chief Information Officer, Commerce Department.

[FR Doc. 2021-08841 Filed 4-27-21; 8:45 am]

BILLING CODE 3510-07-P